DEPARTMENT OF VETERANS AFFAIRS

Rehabilitation Research and Development Service Scientific Merit Review Board; Notice of Meeting

The Department of Veterans Affairs gives notice under Public Law 92-463 (Federal Advisory Committee Act) that the Rehabilitation Research and Development Service Scientific Merit Review Board will meet on March 1-2, 2010, and March 3-4, 2010, at the Marriott Washington Wardman Park Hotel, 2660 Woodley Road, NW., Washington, DC, from 8 a.m. until 5:30 p.m. each day.

The purpose of the Board is to review rehabilitation research and development applications for scientific and technical merit and to make recommendations to the Director, Rehabilitation Research and Development Service, regarding their funding.

The sessions on March 1 and 4 will be open to the public from 8 a.m. to 9 a.m. for the discussion of administrative matters, the general status of the program and the administrative details of the review process. The sessions will be closed as follows for the Board's review of research and development applications:

March 1—from 9 a.m. to 5:30 p.m.

March 2—from 8 a.m. to 5:30 p.m.

March 4—from 9 a.m. to 5:30 p.m.

March 5—from 8 a.m. to 5:30 p.m.

The reviews involves oral comments, discussion of site visits, staff and consultant critiques of proposed research protocols, and similar analytical documents that focus on the consideration of the personal qualifications, performance and competence of individual research investigators. Disclosure of such information would constitute a clearly unwarranted invasion of personal privacy. Disclosure would also reveal research proposals and research underway which could lead to the loss of these projects to third parties and thereby frustrate future agency research efforts. As provided by subsection 10(d) of Public Law 92-463, as amended, closing positions of the meeting is in accordance with 5 U.S.C. 552b(c)(6), and (c)(9)(B).

Those who plan to attend the open sessions should contact Tiffany Asqueri, Federal Designated Officer, Rehabilitation Research and Development Service (122P), Department of Veterans Affairs, 810 Vermont Avenue, NW., Washington, DC 20420, or at (202) 461-1740.

Dated: January 14, 2010.
By direction of the Secretary.
Vivian Drake,
Acting Committee Management Officer.

[FR Doc. 2010-1001 Filed 1-20-10; 8:45 am]

BILLING CODE P